DEPARTMENT OF COMMERCE

National Telecommunications and Information Administration

Proposed Information Collection; Comment Request; State Broadband Data and Development Grant Program

ACTION: Notice.

SUMMARY: The Department of Commerce (DOC), as part of its continuing effort to reduce paperwork and respondent burden, invites the general public and other Federal agencies to comment on continuing and proposed information collection, as required by the Paperwork Reduction Act of 1995, Public Law 104-13 (44 U.S.C. 3506(c)(2)(A)).

DATES: Written comments must be submitted on or before February 1, 2010.

ADDRESSES: Direct all written comments to Diana Hynek, Departmental Forms Clearance Officer, Department of Commerce, Room 7845, 1401 Constitution Avenue, NW., Washington, DC 20230 (or via e-mail to dHynek@doc.gov).

FOR FURTHER INFORMATION CONTACT: Requests for additional information or copies of the information collection instrument(s) and instructions should be directed to Anne Neville, National Broadband Mapping Program Director, National Telecommunications and Information Administration (NTIA), Room 4898, U.S. Department of Commerce, 1401 Constitution Avenue, NW., Washington DC 20230 (or via e-mail to aneville@ntia.doc.gov).

SUPPLEMENTARY INFORMATION:

I. Abstract

The purpose of the State Broadband Data and Development (SBDD) Grant Program is to implement the joint goals of the American Recovery and Reinvestment Act of 2009 and the Broadband Data Improvement Act by assisting, through grants, states or their designees in gathering and verifying state-specific data on the availability, speed, location, technology and infrastructure of broadband services. The data will be used to develop publicly available state-wide broadband maps and to help populate the comprehensive and searchable national broadband map that NTIA is required under the Recovery Act to create and make publicly available by February 17, 2011.

Despite the importance of broadband to the U.S. economy, information about broadband availability is currently lacking. The data collected will provide critical information for grant-making, regulatory and policy-making efforts, improve the quality of State-level broadband information, and help ensure map accuracy. The national broadband map will improve market efficiency by providing important information to consumers about broadband consumption options and will enable investors to make better strategic choices about network expansion. The national broadband map will also directly aid in the development of a faster, more extensive broadband infrastructure to reach a greater number of Americans, particularly in unserved and underserved areas.

On July 8, 2009, NTIA issued the Notice of Funds Availability (NOFA) and Solicitation of Applications setting forth the requirements for the SBDD Grant Program (See 74 FR 32545, July 8, 2009). On August 12, 2009, NTIA issued a clarification of the information collection requirements in the NOFA (See 74 FR 40569, Aug. 12, 2009). On September 10, 2009, NTIA issued an additional clarification announcing that NTIA will initially fund mapping and data collection efforts for two years to enable the agency to assess lessons learned, determine best practices, and investigate opportunities for improved data collection prior to obligating funding for subsequent years (See 74 FR 46573, Sept. 10, 2009). Applications for the grant program were received until August 14, 2009 and NTIA received applications representing all 50 States, 5 territories, and the District of Columbia.

Each applicant for program funding submitted an application, on standard OMB-approved forms, proposing data collection through five years and providing five-year budgets. Applicants provided comprehensive descriptions of their plans to obtain and verify required data from all commercial or public providers in their respective states. Data collection and verification methods may vary between applicants and may include online and on-the-ground surveys of providers and the public, Web-enabled data searches, statistical modeling, drive testing of spectrum use and crowd-sourced data reporting. Data must be collected at least semiannually and initial data collection is due on February 1, 2010. On October 5, 2009, NTIA announced that it awarded the first four grants under the SBDD program to fund data collection in California, Indiana, North Carolina, and Vermont.

II. Method of Collection

All reports from awardees will be submitted via the Internet (to allow for efficient posting on the NTIA Web site and public accessibility).

III. Data

OMB Control Number: 0660-0032.

Form Number: None.

Type of Review: Regular submission.

Affected Public: Respondents include state, territory and the District of Columbia or their designees. Subrespondents include facilities-based providers of broadband connections, incumbent and competitive local exchange carriers (LECs), facilities-based mobile telephony service providers, and wireless Internet service providers (WISPs).

Estimated Number of Total Respondents: 56 respondents and 2,000 subrespondents.

Estimated Time Per Response: 3,120 hours for respondents and 50 hours for subrespondents.

Estimated Total Annual Burden Hours: 549,440.

Estimated Total Annual Cost to the Public: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized and/or included in the request for OMB approval of the information collection. Comments will also become a matter of public record.

Dated: November 30, 2009.
Gwellnar Banks,
Management Analyst, Office of the Chief Information Officer.

[FR Doc. E9-28886 Filed 12-2-09; 8:45 am]

BILLING CODE 3510-06-P